DEPARTMENT OF AGRICULTURE

Forest Service

California Coast Provincial Advisory Committee (PAC)

AGENCY: Forest Service, USDA.

ACTION: Notice of meeting.

SUMMARY: The California Coast Provincial Advisory Committee (PAC) will meet on June 14 and 15, 2000, at the Town Hall in Fort Bragg, California. The meeting will be held from 10 a.m. to 5 p.m. on Wednesday, June 14, and from 8:30 a.m. to noon, on Thursday, June 15. The Town Hall is located at 363 No. Main St. in Fort Bragg. Agenda items to be covered include: (1) Issues criteria and process; (2) status of watershed analyses on federal lands in the Province, their effectiveness and prioritization; (3) Protection of federal habitat for remnant native fish stocks; (4) regional Ecosystem Office (REO) update to include Survey and Manage Environmental Impact Statement, PAC rechartering and Interagency Species Management List; (5) Regional Interagency Executive Committee (REIC) and Interagency Advisory Committee (IAC) communication with the PAC; (6) Megram Fire update; (7) presentation on the Forest Service Roadless Area Conservation proposal; (8) Northwest Forest Plan regional implementation monitoring schedule for 2000; (9) National Marine Fisheries Service presentation on impacts of Judge Rothstein's ruling; and (10) open public comment. All California Coast Provincial Advisory Committee meetings are open to the public. Interested citizens are encouraged to attend.

FOR FURTHER INFORMATION CONTACT: Direct questions regarding this meeting to James Fenwood, Forest Supervisor, or Phebe Brown, Province Coordinator, USDA, Mendocino National Forest, 825 N. Humboldt Avenue, Willows, CA, 95988, (530) 934-3316.

Dated: May 23, 2000.
James D. Fenwood,
Forest Supervisor.

[FR Doc. 00-13555 Filed 5-25-00; 8:45 am]

BILLING CODE 3410-11-M